DEPARTMENT OF TRANSPORTATION

Federal Aviation Administration

14 CFR Part 71

[Docket No. FAA-2019-0116; Airspace Docket No. 19-AWA-1]

RIN 2120-AA66

Amendment of Multiple Air Traffic Service (ATS) Routes in the Vicinity of Omaha, NE

AGENCY: Federal Aviation Administration (FAA), DOT.

ACTION: Final rule, technical amendment.

SUMMARY: The FAA is amending three jet routes and seven VHF Omnidirectional Range (VOR) Federal airways in the vicinity of Omaha, Nebraska, to correct the state abbreviation for the Omaha VOR/Tactical Air Navigation (VORTAC) navigation aid (NAVAID). The Omaha VORTAC is located in Mineola, Iowa; however, the state abbreviation for the location of the Omaha VORTAC included in the Air Traffic Service (ATS) routes is listed as “NE”. Specifically, this action changes the state abbreviation for the Omaha VORTAC listed in the jet route J-21, J-41, and J-151, and VOR Federal airway V-6, V-8, V-138, V-159, V-172, V-181, and V-307, descriptions from “NE” to “IA” to match the information contained in the FAA's aeronautical database and the charted ATS route depictions on the associated charts. No air traffic services are affected by this action.

DATES: Effective date 0901 UTC, August 15, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to http://www.archives.gov/federal_register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports the air traffic service route structure as required to maintain the efficient flow of air traffic.

History

After a recent review of aeronautical data, the state abbreviation published for the Omaha VORTAC in the J-21, J-41, J-151, V-6, V-8, V-138, V-159, V-172, V-181, and V-307 descriptions was determined to be in error in each ATS route. The Omaha VORTAC is actually located in Mineola, Iowa, and the state abbreviation for the NAVAID should reflect “IA” instead of the abbreviation “NE” which is in the existing descriptions. The correct reference for the Omaha VORTAC is “Omaha, IA”. Accordingly, the FAA is amending the ATS route descriptions listed above to change the Omaha VORTAC reference from “Omaha, NE,” to “Omaha, IA”.

Jet routes are published in paragraph 2004 and domestic VOR Federal airways are published in paragraph 6010(a) of FAA Order 7400.11C dated August 13, 2018, and effective September 15, 2018, which is incorporated by reference in 14 CFR 71.1. The jet routes and VOR Federal airways listed in this rule will be subsequently published in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This action amends Title 14 Code of Federal Regulations (14 CFR) part 71 by correcting the Omaha VORTAC reference in the J-21, J-41, J-151, V-6, V-8, V-138, V-159, V-172, V-181, and V-307 descriptions. The route modifications are editorial in nature and only change the state abbreviation for the Omaha VORTAC listed in the descriptions from “NE” to “IA” to match the information contained in the FAA's aeronautical database and the charted ATS route depictions.

All radials in the route descriptions are stated relative to True north. Additionally, minor punctuation and format changes were made for clarity.

This is an administrative correction and does not affect any air traffic services or operating requirements; therefore, notice and public procedure under Title 5 U.S.C. 553(b) is unnecessary.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of modifying three jet routes and seven VOR Federal airways by correcting the state abbreviation for the Omaha VORTAC listed in the affected ATS route descriptions has no potential to cause any significant environmental impacts, and no extraordinary circumstances exist that warrant preparation of an environmental assessment. Therefore, this airspace action qualifies for categorical exclusion under the National Environmental Policy Act and its implementing regulations at 40 CFR part 1500-1508, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 2004 Jet Routes.

* * * * *

J-21

From INT of the United States/Mexican Border and the Laredo, TX, 172° radial; Laredo; San Antonio, TX; Centex, TX; Waco, TX; Ranger, TX; Ardmore, OK; Will Rogers, OK; Wichita, KS; Omaha, IA; Gopher, MN; to Duluth, MN.

* * * * *

J-41

From Key West, FL; Lee County, FL; St. Petersburg, FL; Seminole, FL; Montgomery, AL; Vulcan, AL; Memphis, TN; Springfield, MO; Kansas City, MO; to Omaha, IA.

* * * * *

J-151

From Cross City, FL; Vulcan, AL; Farmington, MO; St. Louis, MO; Kirksville, MO; Omaha, IA; O'Neil, NE; Rapid City, SD; Billings, MT; INT Billings 266° and Whitehall, MT, 103° radials; to Whitehall.

* * * * *

Paragraph 2010(a) Domestic VOR Federal Airways.

* * * * *

V-6

From Oakland, CA; INT Oakland 039° and Sacramento, CA, 212° radials; Sacramento; Squaw Valley, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles 95 MSL, Cherokee, WY; 39 miles, 27 miles 95 MSL, Medicine Bow, WY; INT Medicine Bow 106° and Sidney, NE, 291° radials; Sidney; North Platte, NE; Grand Island, NE; Omaha, IA; Des Moines, IA; Iowa City, IA; Davenport, IA; INT Davenport 087° and DuPage, IL, 255° radials; to DuPage. From INT Chicago Heights, IL, 358° and Gipper, MI, 271° radials; Gipper; to INT Gipper 092° and Litchfield, MI, 196° radials. From Clarion, PA; Philipsburg, PA; Selinsgrove, PA; Allentown, PA; Solberg, NJ; INT Solberg 107° and Yardley, PA, 068° radials; INT Yardley 068° and La Guardia, NY, 213° radials; to La Guardia.

* * * * *

V-8

From INT Seal Beach, CA, 266° and Ventura, CA, 144° radials; Seal Beach; Paradise, CA; 35 miles, 7 miles wide (3 miles SE and 4 miles NW of centerline) Hector, CA; Goffs, CA; INT Goffs 033° and Morman Mesa, NV, 196° radials; Morman Mesa; Bryce Canyon, UT; Hanksville, UT; Grand Junction, CO; Rifle, CO; Kremmling, CO; Mile High, CO; Akron, CO; Hayes Center, NE; Grand Island, NE; Omaha, IA; Des Moines, IA; Iowa City, IA; Moline, IL; Joliet, IL; Chicago Heights, IL; Goshen, IN; to Flag City, OH. From Martinsburg, WV; to Washington, DC. The portion outside the United States has no upper limit.

* * * * *

V-138

From Riverton, WY; 35 miles, 80 miles 107 MSL, 16 miles 85 MSL, Medicine Bow, WY; Cheyenne, WY; Sidney, NE. From Grand Island, NE; 1,200 feet AGL INT of Grand Island 099° and Lincoln, NE, 267° radials; 1,200 feet AGL Lincoln; Omaha, IA; INT Omaha 032° and Fort Dodge, IA, 222° radials; Fort Dodge; Mason City, IA; to Waukon, IA.

* * * * *

V-159

From Virginia Key, FL; INT Virginia Key 344°and Treasure, FL, 178°radials; Treasure; INT Treasure 318° and Orlando, FL, 140° radials; Orlando; Ocala, FL; Cross City, FL; Greenville, FL; Pecan, GA; Eufaula, AL; Tuskegee, AL; Vulcan, AL; Hamilton, AL; Holly Springs, MS; Gilmore, AR; Walnut Ridge, AR; Dogwood, MO; Springfield, MO; Napoleon, MO; INT Napoleon 005°and St. Joseph, MO, 122°radials; St. Joseph; Omaha, IA; Sioux City, IA; Yankton, SD; Mitchell, SD; to Huron, SD.

* * * * *

V-172

From North Platte, NE; INT North Platte 073° and Wolbach, NE, 266° radials; Wolbach; Columbus, NE; Omaha, IA; INT Omaha 066° and Newton, IA, 262° radials; Newton; Cedar Rapids, IA; Polo, IL; INT Polo 088° and Du Page, IL, 293° radials; to Du Page.

* * * * *

V-181

From Kirksville, MO; Lamoni, IA; Omaha, IA; Norfolk, NE; Yankton, SD; Sioux Falls, SD; Watertown, SD; 34 miles, 24 miles, 34 MSL, Fargo, ND; Grand Forks, ND; Humboldt, MN; to INT Humboldt 356° radial and the United States/Canadian border.

* * * * *

V-307

From Harrison, AR; Neosho, MO; Oswego, KS; Chanute, KS; Emporia, KS; INT Emporia 336° and Pawnee City, NE, 194° radials; Pawnee City; Omaha, IA; INT Omaha 320° and Sioux City, IA, l74° radials; to Sioux City.

* * * * *

Issued in Washington, DC, on July 8, 2019.
Rodger A. Dean Jr.,
Manager, Airspace Policy Group.

[FR Doc. 2019-15117 Filed 7-16-19; 8:45 am]

BILLING CODE 4910-13-P